ENVIRONMENTAL PROTECTION AGENCY

[FRL OP-OFA-105]

Environmental Impact Statements; Notice of Availability

Responsible Agency: Office of Federal Activities, General Information 202-564-5632 or https://www.epa.gov/nepa.

Weekly receipt of Environmental Impact Statements (EIS)

Filed December 29, 2023 10 a.m. EST Through January 8, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240001, Draft, BLM, NV, Rough Hat Clark Solar Project Draft EIS and Resource Management Plan, Comment Period Ends: 04/11/2024, Contact: Whitney Wirthlin 725-249-3318.

EIS No. 20240002, Draft, BOEM, NY, New York Bight, Comment Period Ends: 02/26/2024, Contact: Jill Lewandowski 703-787-1703.

EIS No. 20240003, Draft, APHIS, CA, California Wildlife Damage Management Joint EIR-EIS, Comment Period Ends: 03/12/2024, Contact: Jeff Flores, State Director 916-979-2675.

Dated: January 8, 2024.
Julie Smith,
Acting Director, NEPA Compliance Division, Office of Federal Activities.

[FR Doc. 2024-00533 Filed 1-11-24; 8:45 am]

BILLING CODE 6560-50-P